DEPARTMENT OF ENERGY

Federal Energy Regulatory Commission

Notice of Commission Staff Attendance

The Federal Energy Regulatory Commission (Commission) hereby gives notice that members of the Commission's staff may attend the following meetings related to the transmission planning activities of Tucson Electric Power Company, UNS Electric, Inc., Public Service Company of New Mexico, Arizona Public Service Company, El Paso Electric Company, Black Hills Power, Inc., Black Hills Colorado Electric Utility Company, LP, Cheyenne Light, Fuel, & Power Company, NV Energy, Inc.; and Xcel Energy Services, Inc. on behalf of Public Service Company of Colorado:

Planning Management Committee Meeting

May 9, 2018, 9 a.m.-3 p.m. (MDT)

Planning Management Committee Meeting

June 13, 2018, 9 a.m.-3 p.m. (MDT)

The May 9, 2018 Planning Management Committee Meeting will be held at: Energy Strategies, 215 State St. #200, Salt Lake City, UT 84111.

The June 13, 2018 Planning Management Committee Meeting will be held at: Xcel Energy, 1800 Larimer St., Denver, CO 80202.

The above-referenced meetings will be available via web conference and teleconference.

The above-referenced meetings are open to stakeholders.

Further information may be found at http://www.westconnect.com/.

The discussions at the meetings described above may address matters at issue in the following proceeding: ER13-75, Public Service Company of Colorado, et al.

For more information contact Nicole Cramer, Office of Energy Market Regulation, Federal Energy Regulatory Commission at (202) 502-6775 or nicole.cramer@ferc.gov.

Dated: May 4, 2018.
Kimberly D. Bose,
Secretary.

[FR Doc. 2018-09965 Filed 5-9-18; 8:45 am]

BILLING CODE 6717-01-P